SMALL BUSINESS ADMINISTRATION

Advisory Committee Charter Renewals

AGENCY: U.S. Small Business Administration (SBA).

ACTION: Notice of advisory committee charter renewals.

SUMMARY: Pursuant to sections 14(b)(1) and 9(c) of the Federal Advisory Act (Pub. L. 92-463) and consultation with the General Services Administration, the Small Business Administration has determined that the following Federal advisory committees are vital to the mission of the SBA and will be renewed for a two-year period through January 26, 2028.

DATES: Renewed through January 26, 2028.

FOR FURTHER INFORMATION CONTACT: Andrienne Johnson, Committee Management Officer (CMO), Office of the Administrator, (202) 205-6685 or FACA@sba.gov.

SUPPLEMENTARY INFORMATION:

Committee name | Committee description
Advisory Committee on Veterans Business Affairs | An independent source that provides advice and policy recommendations to the Administrator of the U.S. Small Business Administration (SBA), the Associate Administrator for Veterans Business Development of SBA, the Congress, the President, and other U.S. policymakers on issues of interest to small businesses owned and operated by veterans.
Audit and Financial Management Advisory Board | Provide recommendations and advice regarding the Agency's financial management, including the financial reporting process, systems of internal controls, audit process and process for monitoring compliance with relevant laws and regulations.
Council on Underserved Communities | Provides advice, ideas and opinions on SBA programs and services and issues of interest to small businesses in underserved communities. Its members provide an essential connection between SBA and small businesses in historically underserved communities.
Council on Underserved Communities | Provides advice, ideas and opinions on SBA programs and services and issues of interest to small businesses in underserved communities. Its members provide an essential connection between SBA and small businesses in historically underserved communities.
National Small Business Development Center Advisory Board | To provide advice, counsel, and confer with the Associate Administrator for Small Business Development Centers in carrying out the SBDC Program under Section 21 of the Small Business Act.
National Women's Business Council | Provide advice and policy recommendations that will support the creation and growth of woman-owned businesses.
Small Business Lending Advisory Board | Provide advice, insights, and recommendations to SBA on matters broadly related to facilitating greater access and availability of capital for small businesses and address long-term capital access gaps faced by small businesses and obstacles faced by the lenders that seek to support them.
Small Business Regulatory Fairness Boad 1-10 | Report to the Small Business Ombudsman (National Ombudsman) on matters of concern to small businesses relating to the enforcement activities of agencies, substantiated instances of excessive enforcement or compliance actions of Federal agencies against small businesses, and any findings or recommendations of the regional board regarding Federal agency enforcement policy or practice.

(Authority: 5 U.S.C. 10.)

Dated: January 14, 2026.
Andrienne Johnson,
Committee Management Officer.

[FR Doc. 2026-00973 Filed 1-16-26; 8:45 am]

BILLING CODE 8026-09-P